DEPARTMENT OF TRANSPORTATION

Federal Aviation Administration

14 CFR Part 39

[Docket No. FAA-2021-0510; Project Identifier 2019-CE-058-AD; Amendment 39-21629; AD 2021-14-02]

RIN 2120-AA64

Airworthiness Directives; Aircraft Industries a.s. Airplanes

AGENCY: Federal Aviation Administration (FAA), DOT.

ACTION: Final rule; request for comments.

SUMMARY: The FAA is adopting a new airworthiness directive (AD) for all Aircraft Industries a.s. Models L-420, L 410 UVP-E20, and L 410 UVP-E20 CARGO airplanes. This AD results from mandatory continuing airworthiness information (MCAI) issued by the aviation authority of another country to identify and correct an unsafe condition on an aviation product. The MCAI identifies the unsafe condition as cracking of the retaining bolt on the nose landing gear (NLG) control. The FAA is issuing this AD to address the unsafe condition on these products.

DATES: This AD is effective August 2, 2021.

The Director of the Federal Register approved the incorporation by reference of certain publications listed in the AD as of August 2, 2021.

The FAA must receive comments on this AD by August 26, 2021.

ADDRESSES: You may send comments by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact Aircraft Industries, a.s., 686 04 Kunovice, Czech Republic; phone: +420 572 817 664; fax: +420 572 816 112; email: pps@let.cz; website: http://www.let.cz/en/bulletin. You may view this service information at the FAA, Airworthiness Products Section, Operational Safety Branch, 901 Locust, Kansas City, MO 64106. For information on the availability of this material at the FAA, call (816) 329-4148. It is also available at https://www.regulations.gov by searching for locating Docket No. FAA-2021-0510.

Examining the AD Docket

You may examine the AD docket at https://www.regulations.gov by searching for and locating Docket No. FAA-2021-0510; or in person at Docket Operations between 9 a.m. and 5 p.m., Monday through Friday, except Federal holidays. The AD docket contains this final rule, the MCAI, any comments received, and other information. The street address for Docket Operations is listed above.

FOR FURTHER INFORMATION CONTACT: Doug Rudolph, Aviation Safety Engineer, General Aviation & Rotorcraft Section, International Validation Branch, FAA, 901 Locust, Room 301, Kansas City, MO 64106; phone: (816) 329-4059; fax: (816) 329-4090; email: doug.rudolph@faa.gov.

SUPPLEMENTARY INFORMATION:

Comments Invited

The FAA invites you to send any written data, views, or arguments about this final rule. Send your comments to an address listed under ADDRESSES. Include “Docket No. FAA-2021-0510 and Project Identifier 2019-CE-058-AD” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Doug Rudolph, Aerospace Engineer, FAA, General Aviation & Rotorcraft Section, International Validation Branch, 901 Locust, Room 301, Kansas City, MO 64106. Any commentary that the FAA receives which is not specifically designated as CBI will be placed in the public docket for this rulemaking.

Background

The European Union Aviation Safety Agency (EASA), which is the Technical Agent for the Member States of the European Community, has issued EASA AD 2019-0308, dated December 18, 2019 (referred to after this as “the MCAI”), to address the unsafe condition on Aircraft Industries a.s. Models L-410 UVP-Turbolet, L-410 UVP-E, L 410 UVP-E9, L 410 UVP-LW, L 410 UVP-E-LW, L 410 UVP-E20, L 410 UVP-E20 CARGO and L-420 airplanes. The MCAI states:

Malfunction of the steering on the nose landing gear was reported by L-410 operators. Investigation determined that the malfunction was due to loss of the vertical pin further to a cracking of the retaining bolt on the nose landing gear control.

This condition, if not detected and corrected, could lead to reduced control of the aeroplane during taxiing, take-off and landing.

To address this potential unsafe condition, Aircraft Industries developed an improved pin and issued the applicable SB [service bulletin] to provide inspection and modification instructions.

For the reason described above, this [EASA] AD requires a one-time inspection of the the [sic] nose landing gear leg to determine if an affected part is installed, and replacement of affected parts with improved pins.

You may examine the MCAI in the AD docket at https://www.regulations.gov by searching for and locating Docket No. FAA-2021-0510.

Related Service Information Under 1 CFR Part 51

The FAA reviewed LET Aircraft Industries Mandatory Bulletin SB No. L-420/021a, Revision 1, dated October 29, 2019, as applicable to Model L-420 airplanes; and LET Aircraft Industries Mandatory Bulletin SB No. L410UVP-E/144a, Revision 1, dated October 29, 2019, as applicable to Models L 410 UVP-E20 and L 410 UVP-E20 CARGO airplanes. For the airplane models specified on each document, the service information contains procedures for inspecting the NLG steering lever assembly vertical pin and replacing it if part number (P/N) L3 223 016 with a retaining bolt is installed. This service information is reasonably available because the interested parties have access to it through their normal course of business or by the means identified in the ADDRESSES.

FAA's Determination

This product has been approved by the aviation authority of another country, and is approved for operation in the United States. Pursuant to our bilateral agreement with this State of Design Authority, it has notified the FAA of the unsafe condition described in the MCAI and service information referenced above. The FAA is issuing this AD because it evaluated all information provided by the State of Design Authority and determined the unsafe condition described previously is likely to exist or develop on other products of the same type design.

AD Requirements

This AD requires accomplishing the actions specified in the service information already described. This AD also prohibits installing a vertical pin P/N L3 223 016 in the NLG steering lever assembly on any airplane.

Differences Between This AD and the MCAI

The MCAI applies to Models L-410 UVP-Turbolet, L-410 UVP-E, L 410 UVP-E9, L 410 UVP-LW, and L 410 UVP-E-LW. This AD does not because those models do not have an FAA type certificate.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA has found that the risk to the flying public justifies waiving notice and comment prior to adoption of this rule because there are no airplanes currently on the U.S. registry and thus, it is unlikely that the FAA will receive any adverse comments or useful information about this AD from U.S. operators. Accordingly, notice and opportunity for prior public comment are unnecessary pursuant to 5 U.S.C. 553(b)(3)(B). In addition, the FAA finds that good cause exists pursuant to 5 U.S.C. 553(d) for making this amendment effective in less than 30 days for the same reasons the FAA found good cause to forego notice and comment.

Costs of Compliance

There are currently no affected airplanes on the U.S. registry. In the event an affected product becomes a U.S.-registered product, the following is an estimate of the costs to comply with this AD.

The FAA estimates that it would take .5 work-hour per airplane to comply with the inspection required by this AD. The average labor rate is $85 per work-hour. Based on these figures, the FAA estimates the cost of this AD to be $42.50 per airplane.

In addition, the FAA estimates that replacing the vertical pin, if necessary, would take 1 work-hour and require parts costing $2,000 for a cost of $2,085 per airplane.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-14-02 Aircraft Industries a.s.: Amendment 39-21629; Docket No. FAA-2021-0510; Project Identifier 2019-CE-058-AD.

(a) Effective Date

This airworthiness directive (AD) becomes effective August 2, 2021.

(b) Affected ADs

None.

(c) Applicability

This AD applies to Aircraft Industries a.s. Models L-420, L 410 UVP-E20, and L 410 UVP-E20 CARGO airplanes, all serial numbers, certificated in any category.

(d) Subject

Joint Aircraft System Component (JASC) Code 3250, Landing Gear Steering System.

(e) Unsafe Condition

This AD was prompted by mandatory continuing airworthiness information (MCAI) originated by an aviation authority of another country to identify and correct an unsafe condition on an aviation product. The MCAI identifies the unsafe condition as cracking of the retaining bolt on the nose landing gear (NLG) control. The FAA is issuing this AD to prevent loss of the NLG vertical pin, which, if not addressed, could result in reduced airplane control during taxing, takeoff, and landing.

(f) Compliance

Comply with this AD within the compliance times specified, unless already done.

(g) Inspection and Replacement

(1) Within 30 days after the effective date of this AD, inspect the NLG to determine if vertical pin part number (P/N) L3 223 016 with retaining bolt is installed on the NLG steering lever assembly. If vertical pin P/N L3 223 016 is installed, before further flight, replace the vertical pin with vertical pin P/N L3 223 316 by following sections B. and C. of the Instruction for Implementation in LET Aircraft Industries Mandatory Bulletin SB No. L-420/021a, Revision 1, dated October 29, 2019; or LET Aircraft Industries Mandatory Bulletin SB No. L410UVP-E/144a, Revision 1, dated October 29, 2019, as applicable to your airplane model.

(2) As of the effective date of this AD, do not install a vertical pin P/N L3 223 016 in the NLG steering lever assembly on any airplane.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in Related Information, paragraph (i)(1) of this AD or email: 9-AVS-AIR-730-AMOC@faa.gov.

(2) Before using any approved AMOC, notify your appropriate principal inspector, or lacking a principal inspector, the manager of the local flight standards district office/certificate holding district office.

(i) Related Information

(1) For more information about this AD, contact Doug Rudolph, Aviation Safety Engineer, General Aviation & Rotorcraft Section, International Validation Branch, FAA, 901 Locust, Room 301, Kansas City, MO 64106; phone: (816) 329-4059; fax: (816) 329-4090; email: doug.rudolph@faa.gov.

(2) Refer to European Union Aviation Safety Agency (EASA) AD 2020-0308, dated December 18, 2019, for more information. You may examine the EASA AD in the AD docket at https://www.regulations.gov by searching for and locating it in Docket No. FAA-2021-0510.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) LET Aircraft Industries Mandatory Bulletin SB No. L-420/021a, Revision 1, dated October 29, 2019.

(ii) LET Aircraft Industries Mandatory Bulletin SB No. L410UVP-E/144a, Revision 1, dated October 29, 2019.

(3) For service information identified in this AD, contact Aircraft Industries, a.s., 686 04 Kunovice, Czech Republic; phone: +420 572 817 664; fax: +420 572 816 112; email: pps@let.cz; website: http://www.let.cz/en/bulletin.

(4) You may view this referenced service information at the FAA, Airworthiness Products Section, Operational Safety Branch, 901 Locust, Kansas City, MO 64106. For information on the availability of this material at the FAA, call (816) 329-4148. It is also available at https://www.regulations.gov by searching for locating Docket No. FAA-2021-0510.

(5) You may view this service information that is incorporated by reference at the National Archives and Records Administration (NARA). For information on the availability of this material at NARA, email: fedreg.legal@nara.gov, or go to: https://www.archives.gov/federal-register/cfr/ibr-locations.html.

Issued on June 21, 2021.
Lance T. Gant,
Director, Compliance & Airworthiness Division, Aircraft Certification Service.

[FR Doc. 2021-13637 Filed 7-9-21; 8:45 am]

BILLING CODE 4910-13-P